DEPARTMENT OF THE INTERIOR

Fish and Wildlife Service

Status of the Wasatch Front Population of the Spotted Frog

AGENCY: Fish and Wildlife Service, Interior.

ACTION: Notice of intent.

SUMMARY: We, the U.S. Fish and Wildlife Service (Service) announce our intent to prepare a status review and a revised 12-month finding for the Wasatch Front population of the spotted frog (Rana luteiventris).

DATES: Comments and information for our use in preparing the status review and revised 12-month finding will be accepted until November 9, 2001.

ADDRESSES: Questions and comments concerning this status review should be sent to Henry Maddux, Field Supervisor, U.S. Fish and Wildlife Service, 145 East 1300 South, Suite 404, Salt Lake City, Utah 84115. Written comments and materials also should be directed to the same address. Copies of our 1995 status review and 12-month finding are available on the web at <http://mountain-prairie.fws.gov/spottedfrog>. Comments can be provided via e-mail to <fw6_spottedfrog@fws.gov>. Comments and materials received will be available on request for public inspection, by appointment, during normal business hours at the above address.

FOR FURTHER INFORMATION CONTACT: Jessica L. Gourley, Fish and Wildlife Biologist (see ADDRESSES section), telephone (801) 524-5001, e-mail <jess_gourley@fws.gov>.

SUPPLEMENTARY INFORMATION:

Background

On May 1, 1989, we received a petition from the Board of Directors of the Utah Nature Study Society requesting that the Service add the spotted frog (then referred to as Rana pretiosa) to the List of Threatened and Endangered Species. The petition addressed the range-wide distribution of the spotted frog that included a main population in southeast Alaska, Alberta, British Columbia, eastern Washington, northeastern Oregon, northern and central Idaho, and western Montana and Wyoming, Utah, and additional disjunct populations in northeastern California, southern Idaho, Nevada, and western Washington and Oregon. The disjunct populations in Utah occur along the Wasatch Front and West Desert. The petition specifically requested that we consider the status of the Wasatch Front population.

The spotted frog belongs to the family of true frogs, the Ranidae. Adult frogs have large, dark spots on their backs and pigmentation on their abdomens varying from yellow to red (Turner 1957). Spotted frogs along the Wasatch Front generally possess a salmon color ventrally, while West Desert and Sanpete County, Utah, populations [[Page 16219]] generally have a yellow to yellow-orange color ventrally. Spotted frogs in Utah are reported to have fewer and lighter colored spots (Colburn, U.S. Fish and Wildlife Service, pers. comm. 1992) than other populations. The spotted frog is closely associated with water (Dumas 1966, Nussbaum et al. 1983). Habitat includes the marshy edges of ponds, lakes, slow-moving cool water streams and springs (Licht 1974; Nussbaum et al. 1983; Morris and Tanner 1969; Hovingh 1987).

Section 4(b)(3)(B) of the Endangered Species Act (ESA) of 1973, as amended (16 U.S.C. 1531 et seq.), requires that we make a finding on whether a petition to list, delist or reclassify a species presents substantial scientific or commercial information indicating that the petitioned action is—(a) not warranted; (b) warranted; or (c) warranted but precluded from immediate proposal by other pending listing proposals of higher priority. We subsequently published a notice of a 90-day finding in the Federal Register (54 FR 42529) on October 17, 1989, and a notice of the 12-month petition finding in the Federal Register (58 FR 27260) on May 7, 1993. In the 12-month petition finding we concluded that listing of the spotted frog as threatened in some portions of its range was warranted but precluded by other higher priority listing actions. Both distinct populations in Utah, the Wasatch Front and West Desert populations, were found to be warranted but precluded and were designated as candidates for listing. The Wasatch Front population was assigned a listing priority number of 3 because the magnitude of the threats were high and imminent, while the West Desert population was assigned a listing priority of 9 because of moderate to low threats.

Our warranted but precluded finding identified that habitat loss and modification from reservoir construction and from urban and agricultural developments was a primary cause of the decline in the Wasatch Front population (Dennis Shirley, pers. comm. 1992). Degradation of spring habitats and water quality from cattle grazing and other agricultural activities in these limited habitats were identified as potential threats to the spotted frog of the West Desert population (Hovingh 1987; Peter Hovingh, pers. comm. 1992; Dennis Shirley, pers. comm. 1992).

On November 28, 1997, we announced the availability of a Draft Conservation Agreement for the Wasatch Front and West Desert populations (Utah) of spotted frog for review and comment (62 FR 63375). We subsequently signed the Conservation Agreement on February 13, 1998. The goal of this agreement developed by the Utah Department of Natural Resources in cooperation with the Bureau of Land Management, Bureau of Reclamation, Utah Reclamation Mitigation and Conservation Commission, Central Utah Water Conservancy District, the Confederated Tribes of the Goshute Federation, and the Service, was to ensure the long-term conservation of the spotted frog within its historical range in Utah. Due to numerous activities and studies in addition to and pursuant with the Conservation Agreement, we determined that the status of the species in Utah had improved and issued a new 12-month petition finding of “not warranted” on April 2, 1998 (63 FR 16218).

On June 8, 1999, a complaint was filed by the Biodiversity Legal Foundation and Peter Hovingh challenging the “not warranted” finding as violating the ESA and the Administrative Procedure Act. The complaint alleged that the “not warranted” finding was inconsistent with the 8 years of prior determinations by the Service that the spotted frog deserved ESA listing, that spotted frog populations had declined during the course of the 8-year administrative process, that the Conservation Agreement contained future and voluntary actions that had yet to be implemented and had not proven successful at protecting spotted frog populations prior to the “not warranted” decision, and that all measures identified by the Service as having previously been implemented had either failed, had been rejected by the Service as inadequate, or were adopted to mitigate specific projects that had already destroyed spotted frogs and their wetland and aquatic habitat.

On August 6, 2001, a settlement was reached between the plaintiffs and the Government regarding this complaint. The settlement stipulates that we remand for reconsideration the “not warranted” finding and start a new status review and 12-month finding on the Wasatch Front population of the spotted frog. The revised finding is to be completed by July 31, 2002. The agreement also states that we will not vacate our previous determination in the interim. Therefore, the candidate status of the species will not be restored unless and until we determine in the revised 12-month finding that the species is warranted for listing, or warranted but precluded from listing by higher listing priority actions.

References Cited

A complete list of all references cited is available upon request from the Utah Field Office (see ADDRESSES section).

Author

The primary author of this document is Jessica L. Gourley (see ADDRESSES section).

Authority

The authority for this action is section 4(f) of the Endangered Species Act, 16 U.S.C. 1533(f).

Dated: August 30, 2001.
Ralph O. Morgenweck,
Regional Director, Denver, CO.

[FR Doc. 01-22600 Filed 9-7-01; 8:45 am]

BILLING CODE 4310-55-P